DEPARTMENT OF HEALTH AND HUMAN SERVICES

Health Resources and Services Administration

Solicitation of Nominations for Membership To Serve on the Advisory Committee on Interdisciplinary, Community-Based Linkages

AGENCY: Health Resources and Services Administration (HRSA), Department of Health and Human Services (HHS).

ACTION: Request for nominations.

SUMMARY: HRSA is seeking nominations of qualified candidates for consideration for appointment as members of the Advisory Committee on Interdisciplinary, Community-Based Linkages (ACICBL or Committee). The ACICBL provides advice and recommendations to the Secretary of the Department of Health and Human Services (Secretary) concerning policy and program development, and other significant matters related to activities under Part D, Title VII of the Public Health Service (PHS) Act. Per authorizing legislation, the ACICBL currently focuses on the following program areas and/or disciplines: Area Health Education Centers; Geriatrics; Allied Health; Chiropractic; Podiatric Medicine; Mental and Behavioral Health, including Social Work and Graduate Psychology; and Rural Health.

Authority: The ACICBL is required by section 757 (42 U.S.C. 294f) of the PHS Act. Except where otherwise indicated, the Committee is governed by provisions of the Federal Advisory Committee Act (FACA) of 1972 (5 U.S.C. Appendix 2), as amended, which sets forth standards for the formation and use of advisory committees.

DATES: Nominations for membership on the ACICBL must be received on or before the end of the fiscal year.

ADDRESSES: Nomination packages must be electronically submitted to the Designated Federal Official (DFO), Shane Rogers, at email: BHWAdvisoryCouncil@hrsa.gov.

FOR FURTHER INFORMATION CONTACT: Shane Rogers, DFO, Division of Medicine and Dentistry, Bureau of Health Workforce, email at SRogers@hrsa.gov or telephone at 301-443-5260.

SUPPLEMENTARY INFORMATION: The ACICBL provides advice and recommendations to the Secretary concerning policy, program development, and other matters of significance related to interdisciplinary, community-based training grant programs authorized under sections 750-760, Title VII, Part D of the PHS Act. The ACICBL prepares an annual report describing the activities conducted during the calendar year, identifying findings and developing recommendations to enhance these Title VII programs. The annual report is submitted to the Secretary and ranking members of the Senate Committee on Health, Education, Labor and Pensions, and the House of Representatives Committee on Energy and Commerce. The ACICBL develops, publishes, and implements performance measures for programs under this part; develops and publishes guidelines for longitudinal evaluations (as described in section 761(d)(2)) for programs under this part and recommends appropriation levels for programs under this part. The ACICBL meets at least 3 times each calendar year. A copy of the current committee membership, charter, and reports can be obtained by accessing the ACICBL website at https://www.hrsa.gov/advisory-committees/interdisciplinary-community-linkages/index.html.

Nominations: HRSA is requesting nominations for voting members to serve as Special Government Employees (SGEs). The Secretary appoints ACICBL members with the expertise needed to fulfill the duties of the Committee. The membership requirements are set forth in section 757 of the PHS Act (42 U.S.C. 294f). Members are health professionals from schools of medicine or osteopathic medicine, schools of dentistry, schools of pharmacy, schools of veterinary medicine, schools of public health, schools of podiatry, schools of chiropractic, physician assistant education programs, schools of allied health, and schools of nursing. Interested applicants may self-nominate or be nominated by another individual or organization.

Individuals selected for appointment to the Committee will be invited to serve for 3 years. Members of the ACICBL, as SGEs, receive compensation for performance of their duties on the Committee and reimbursement for per diem and travel expenses incurred for attending ACICBL meetings and/or conducting other business on behalf of the Committee.

The following information must be included in the package of materials submitted for each individual nominated for consideration: (1) A letter of nomination that clearly states the name and affiliation of the nominee, the basis for the nomination (i.e., specific attributes that qualify the nominee for service in this capacity), a statement that the nominee is willing to serve as a member of the Committee and appears to have no conflict of interest that would preclude membership. Potential candidates will be asked to provide detailed information concerning such matters as financial holdings, consultancies, research grants, and/or contracts to permit an evaluation of possible sources of conflicts of interest; (2) the nominator's name, address, and daytime telephone number, and the home or work address, telephone number, and email address of the individual being nominated; (3) a current copy of the nominee's curriculum vitae; and (4) a statement of interest from the nominee including any experience with Title VII interdisciplinary, community-based training programs; expertise in the field; and personal desire in participating on a National Advisory Committee. Nomination packages may be submitted directly by the individual being nominated or by the person/organization nominating the candidate.

HHS endeavors to ensure that the membership of the ACICBL is fairly balanced in terms of points of view represented and between the health professions, a broad representation of geographic areas, including balance between urban and rural members, gender, and ethnic and minority groups, as well as individuals with disabilities. At least 75 percent of the members of the Committee are health professionals. Appointments shall be made without discrimination on the basis of age, race, color, national origin, sex, disability, or religion.

Individuals who are selected to be considered for appointment will be required to provide detailed information regarding their financial holdings, consultancies, and research grants or contracts. Disclosure of this information is required in order for ethics officials to determine whether there is a potential conflict of interest between the SGE's public duties as a member of the ACICBL and their private interests, including an appearance of a loss of impartiality as defined by federal laws and regulations, and to identify any required remedial action needed to address the potential conflict.

Maria G. Button,
Director, Executive Secretariat.

[FR Doc. 2021-06341 Filed 3-26-21; 8:45 am]

BILLING CODE 4165-15-P